FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Global Alliance Logistics (MIA) Inc., 10461 NW. 36 Street, Miami, FL 33178, Officers: Tahiry Tijerino, President (Qualifying Individual), Joseph Ng, Chief Finance Officer.

Marine Research & Planning, Inc., 260 California Street, San Francisco, CA 94111-4323, Officer: Torben F. Henry, Director (Qualifying Individual).

Global Freight Systems, Inc., 5523 NW. 72nd Avenue, Miami, FL 33166, Officer: Mario Gutierrez, Jr., President (Qualifying Individual).

Non-Vessel Operating Common Carrier and Ocean Freight Forwarder Transportation Intermediary Applicants

Skycel, Inc. dba Econcargo, 8211 NW. 68 Street, Miami, FL 33166, Officer: Veronica Caraballo, Vice President (Qualifying Individual), Syed Abdul Cader, Member.

Freight Cargo Logistics, LLC, 38 Genesee Drive, Commack, NY 11725, Officer: Steven Soricillo, President (Qualifying Individual).

Global Parcel System LLC, 8248 NW. 30 Terrace, Miami, FL 33122, Officer: Alejandro J. Alvarez, President (Qualifying Individual), David Phillips, President.

Ocean Freight Forwarder—Ocean Transportation Intermediary Applicants

Access Freight Forwarders, LLC, 184 East Bay Street, Suite 202, Charleston, SC 29401, Officers: David Holst, Jr., President (Qualifying Individual), John H. Chapman, Treasurer.

Gruen International, Inc., 6310 N. Port Washington Road, Milwaukee, WI 53217, Officers: Michael J. Karman, Asst. Vice President (Qualifying Individual), Steven Gruen, President.

Dated: October 10, 2003.
Bryant L. VanBrakle,
Secretary.

[FR Doc. 03-26237 Filed 10-16-03; 8:45 am]

BILLING CODE 6730-01-P